DEPARTMENT OF HEALTH AND HUMAN SERVICES

Administration for Children and Families

Agency Recordkeeping/Reporting Requirements Under Emergency Review by the Office of Management and Budget (OMB)

Title: Fourth National Incidence Study of Child Abuse and Neglect (NIS-4).

OMB No.: New Request.

Description: The Department of Health and Human Services intends to issue letters to recruit agencies for participation in the next National Incidence Study of Child Abuse and Neglect (NIS). This will be the fourth cycle of this periodic study. The NIS-1, mandated under Public Law (Pub. L.) 93-247 (1974), was conducted in 1979 and 1980 and reported in 1981. The NIS-2 was mandated under Pub. L. 98-457 (1984), conducted in 1986 and 1987, and reported in 1988. The NIS-3 was mandated under both the Child Abuse Prevention, Adoption and Family Services Act of 1988 (Pub. L. 100-294) and the Child Abuse, Domestic Violence, Adoption and Family Services Act of 1992 (Pub. L. 102-295), conducted between 1993 and 1995, and published in 1996. The NIS-4 is mandated by the Keeping Children and Families Safe Act of 2003 (Pub. L. 108-36).

The NIS is unique in that it goes beyond the abused and neglected children who come to the attention of the Child Protective Services (CPS) system. In contrast to the National Child Abuse and Neglect Data Systems (NCANDS), which rely solely on reported cases, the NIS design assumes that reported children represent only a portion of the children who actually are maltreated. Following the implications of its assumption, the NIS estimates the scope of the maltreated child population by combining information about reported cases with data on maltreated children identified by professionals (called “sentinels”) who encountered them during the normal course of their work in a wide range of agencies in representative communities. These professionals are asked to remain on the lookout for children they believe are maltreated during the study reference period and to provide information about those children. Children identified by sentinels and those who alleged maltreatment is investigated by CPS during the same period are evaluated against standardized definitions and only children who meet the study standards are used to develop the study estimates. The study estimates are couched in terms of numbers of maltreated children, with data unduplicated so a given child is counted only once. Confidentiality of all participants is carefully protected.

A nationally representative sample of 120 counties will be selected and all local child protective service (CPS) agencies serving the selected counties will be identified. Plans will be developed to obtain data on cases investigated during the study reference period, September 4 to December 3, 2005. Sentinels in the selected counties will be identified through samples of agencies in 11 categories: county juvenile probation departments, sheriff (and/or state police) departments, public health departments, public housing departments, municipal police departments, hospitals, schools, day care centers, social service agencies, mental health agencies, and shelters for battered women or runaway/homeless youth. A total of approximately 1,600 sentinel agencies will be sampled. Plans will be developed to identify staff in these agencies who have direct contact with children to serve as sentinels during the study by submitting data on maltreated children they encounter during the study referenced period. in preparation for the study, letters will be sent to the directors of the selected agencies asking them to permit their agencies to participate in the NIS-4, and describing the general nature of the data collection effort. DHHS will issue subsequent notice of proposed data collection for this study after data collection plans are developed.

Respondents:

Annual Burden Estimates
Instrument | Number of respondents | Number of responses per respondent | Average burden hours per response | Total burden hours
Letters to CPS Agencies | 120 | 1 | .20 | 24
Letter to Sentinel Agencies | 1600 | 1 | .20 | 320
Letter to Sentinels | 12000 | 1 | .20 | 2400
Estimated Total Annual Burden Hours: |  |  | .20 | 2744

Additional Information: ACF is requesting that OMB grant a 180 day approval for this information collection under procedures for emergency processing by August 15, 2004. A copy of this information collection, with applicable supporting documentation, may be obtained by calling the Administration for Children and Families, Mary Bruce Webb at (202) 205-8628. In addition, a request may be made by sending an e-mail request to: mbwebb@acf.hhs.gov.

Comments and questions about the information collection described above should be directed to the following address by August 15, 2004: Office of Information and Regulatory Affairs, Attn: OMB Desk Officer for ACF, Office of Management and Budget, Paper Reduction Project, 725 17th Street, NW., Washington, DC 20503. E-mail address: Katherine _T._Astrich@omb. eop. gov.

Dated: July 26, 2004.
Robert Sargis,
Reports Clearance Officer.

[FR Doc. 04-17453 Filed 7-30-04; 8:45 am]

BILLING CODE 4184-01-M